DEPARTMENT OF TRANSPORTATION

Federal Aviation Administration

Notice of Opportunity for Public Comment on Surplus Property Release at Hancock County-Bar Harbor Airport, Trenton, ME

AGENCY: Federal Aviation Administration (FAA), DOT.

ACTION: Request for public comments.

SUMMARY: Under the provisions of Title 49, U.S.C. Section 47153(d), notice is being given that the FAA is considering a request from Hancock County, Maine to waive the surplus property requirements for 0.77 acres of airport property located at Hancock County-Bar Harbor Airport, Trenton, Maine.

DATES: Comments must be received on or before August 16, 2012.

ADDRESSES: Send comments on this document to Mr. Barry J. Hammer at the Federal Aviation Administration, 12 New England Executive Park, Burlington, Massachusetts 01803, Telephone 781-238-7625.

FOR FURTHER INFORMATION CONTACT: Documents are available for review by appointment by contacting Ms. M. Allison Rogers, Telephone 207-667-7329 or by contacting Mr. Barry J. Hammer, Federal Aviation Administration, 16 New England Executive Park, Burlington, Massachusetts, Telephone 781-238-7625.

SUPPLEMENTARY INFORMATION: The Federal Aviation Administration is reviewing a request by Hancock County-Bar Harbor Airport to release 0.77 acres of airport property from surplus property obligations. The State of Maine is making improvements to a portion of State Highway “43” (Route 3) extending from just north of the airport access road to the Route 230 intersection.

The intersection upgrades include construction of a stub entrance for the future realignment of Caruso Drive which is the airport access road. The release will also allow the airport to sell the parcel to the State of Maine at fair market value, $9400 per appraisal, with the proceeds being deposited in an identifiable interest bearing account to be used for airport operating and maintenance expenses. The sale will benefit the airport both operationally and financially.

FAA funding was used in acquiring portions of the proposed parcel to be released. The largest portion of the airport originally was transferred from the U.S. Government through the War Assets Administration by agreement in 1947 and 1948. Additional parcels were subsequently acquired from private landowners during safety area improvements and extensions to the Runway 4 approach end. However, the portions of the parcels obtained and to be released are not needed for aeronautical purposes.

Issued in Burlington, Massachusetts on June 26, 2012.
Michel J. Hovan,
Acting Manager, Airports Division, New England Region.

[FR Doc. 2012-17290 Filed 7-16-12; 8:45 am]

BILLING CODE P